DEPARTMENT OF ENERGY

Federal Energy Regulatory Commission

Combined Notice of Filings

Take notice that the Commission has received the following Natural Gas Pipeline Rate and Refund Report filings:

Filings Instituting Proceedings

Docket Numbers: RP11-1942-000.

Applicants: Tennessee Gas Pipeline Company.

Description: Tennessee Gas Pipeline Company submits tariff filing per: Quality Interchangeability Settlement Pro Forma to be effective 12/31/9998.

Filed Date: 09/22/2011.

Accession Number: 20110922-5090.

Initial Comment Date: 5 p.m. Eastern Time on Monday, October 03, 2011.

Reply Comment Date: 5 p.m. Eastern Time on Tuesday, October 11, 2011.

Docket Numbers: RP11-2577-000.

Applicants: Dominion Transmission, Inc.

Description: Dominion Transmission, Inc. submits tariff filing per 154.204: DTI—Abandonment of X-71 and X-72 to be effective 11/1/2011.

Filed Date: 09/22/2011.

Accession Number: 20110922-5088.

Comment Date: 5 p.m. Eastern Time on Tuesday, October 04, 2011.

Docket Numbers: RP11-2578-000.

Applicants: Guardian Pipeline, L.L.C.

Description: Guardian Pipeline, L.L.C. submits tariff filing per 154.204: EPC Semi Annual Adjustment—Fall 2011 to be effective 11/1/2011.

Filed Date: 09/22/2011.

Accession Number: 20110922-5096.

Comment Date: 5 p.m. Eastern Time on Tuesday, October 04, 2011.

Docket Numbers: RP11-2579-000.

Applicants: Mississippi Hub, LLC.

Description: Annual Penalty Disbursement Report of Mississippi Hub, LLC.

Filed Date: 09/23/2011.

Accession Number: 20110923-5016.

Comment Date: 5 p.m. Eastern Time on Wednesday, October 05, 2011.

Docket Numbers: RP11-2580-000.

Applicants: CenterPoint Energy—Mississippi River Transmission, LLC.

Description: CenterPoint Energy—Mississippi River Transmission, LLC submits tariff filing per 154.403(d)(2): 2011 Fuel Adjustment Filing to be effective 11/1/2011.

Filed Date: 09/23/2011.

Accession Number: 20110923-5022.

Comment Date: 5 p.m. Eastern Time on Wednesday, October 05, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 23, 2011.
Nathaniel J. Davis, Sr.,
Deputy Secretary.

[FR Doc. 2011-25441 Filed 10-3-11; 8:45 am]

BILLING CODE 6717-01-P